DEPARTMENT OF ENERGY

[OE Docket No. EA-370-B]

Application to Export Electric Energy; Vitol Inc.

AGENCY: Office of Electricity, Department of Energy.

ACTION: Notice of application.

SUMMARY: Vitol Inc. (Applicant or Vitol) has applied for authorization to transmit electric energy from the United States to Canada pursuant to the Federal Power Act.

DATES: Comments, protests, or motions to intervene must be submitted on or before October 26, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On August 25, 2020, Vitol filed an application with DOE (Application or App.) to transmit electric energy from the United States to Canada for a term of five years. Vitol states that it “is a Delaware corporation with its principal place of business in Houston, Texas” and that it “is a wholly-owned, direct subsidiary of Vitol US Holding Co.” App. at 2. Vitol adds that it “does not own any electric generation or transmission facilities, nor does it hold a franchise or service territory for the transmission, distribution, or sale of electric power.” Id. at 4.

Vitol further states that it “has purchased, or will purchase, the power that may be exported to Canada from wholesale generators, electric utilities, and federal power marketing agencies.” App. at 4. Vitol contends that any power it purchases for export would be “surplus to the needs of the selling entities” and that “the proposed exports will not impair or tend to impede the sufficiency of electric power supplies in the United States or the regional coordination of electric utility planning or operations.” Id. at 5.

Vitol also “agrees to abide by the export limits . . . of any [approved] transmission facilities over which Vitol exports electric power to Canada,” and states that “[t]he controls that are inherent in any transaction that complies with all [reliability] requirements and the export limits imposed by the Department on the international transmission facilities are sufficient to ensure that exports by Vitol would not impede or tend to impede the coordinated use of transmission facilities” under the Federal Power Act. App. at 6.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Vitol's application to export electric energy to Canada should be clearly marked with OE Docket No. EA-370-B. Additional copies are to be provided directly to Robert Viola, 2925 Richmond Avenue, 11th Floor, Houston, TX 77098; rfv@vitol.com; Daniel E. Frank, 700 Sixth St. NW, Suite 700, Washington, DC 20001; danielfrank@eversheds-sutherland.com; Martha M. Hopkins, 700 Sixth St. NW, Suite 700, Washington, DC 20001; martyhopkins@eversheds-sutherland.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on September 21, 2020.
Christopher Lawrence,
Management and Program Analyst, Transmission Permitting and Technical Assistance, Office of Electricity.

[FR Doc. 2020-21192 Filed 9-24-20; 8:45 am]

BILLING CODE 6450-01-P